POSTAL SERVICE

39 CFR Part 111

Invalid Ancillary Service Endorsements

AGENCY: Postal Service.

ACTION: Proposed rule.

SUMMARY: This proposed rule would amend the Domestic Mail Manual to eliminate the transitional provisions for the handling of mail bearing invalid ancillary service endorsements. Under the proposal, the Postal Service may reject mail bearing invalid endorsements. Items bearing invalid or conflicting ancillary service endorsements that are found in the mailstream will be treated as unendorsed mail.

DATES: Comments must be received on or before September 1, 2000.

ADDRESSES: Written comments should be mailed or delivered to the Manager, Delivery Policies and Programs, U.S. Postal Service, 475 L'Enfant Plaza SW, Room 7142, Washington, DC 20260-2802. Copies of all written comments will be available for inspection and photocopying at USPS Headquarters Library, 475 L'Enfant Plaza SW, 11th Floor N, Washington, DC between 9 a.m. and 4 p.m., Monday through Friday. Comments may not be submitted via fax or email.

FOR FURTHER INFORMATION CONTACT: Jackie Estes, 202-268-3543.

SUPPLEMENTARY INFORMATION: In July 1997, the Postal Service simplified the endorsements for requesting ancillary services by eliminating the existing endorsements and substituting four choices: Address Service Requested, Change Service Requested, Forwarding Service Requested, and Return Service Requested (including Temp—Return Service Requested, for use with First-Class Mail only).

As a transitional accommodation to mailers with stationery bearing the former endorsements, the Postal Service adopted Domestic Mail Manual (DMM) F030.1.2 to provide for the handling of mail bearing invalid endorsements. This mail was to be accepted and handled in accordance with a current valid endorsement, based on the expectations implied by the improper endorsement on the mail.

In view of the length of time since the adoption of the current endorsements, and to reduce the risk of confusion and error created by conflicting and obsolete endorsements, the Postal Service considers it appropriate to eliminate the transitional provision. Accordingly, it proposes to revise DMM F030.1.2 to provide ancillary services only in accordance with the valid endorsements shown in DMM F010. Mail bearing invalid or conflicting ancillary service endorsements will no longer be considered acceptable for mailing, and the Postal Service may refuse to accept this mail. If mail bearing invalid or conflicting endorsements is discovered in the mailstream, it will be handled as unendorsed mail. In the case of Standard Mail (B), “treatment as unendorsed mail” effectively means that it will be treated as if endorsed “Forwarding Service Requested.” This provision recognizes that the general public (in contrast with business mailers) is unfamiliar with ancillary service endorsements, and ensures its packages will be delivered or returned.

Although exempt from the notice and comment requirements of the Administrative Procedure Act (39 U.S.C 410 (a)), the Postal Service invites comments on the following proposed revisions to the Domestic Mail Manual, incorporated by reference in the Code of Federal Regulations. See 39 CFR part 111.

List of Subjects in 39 CFR Part 111

Administrative practice and procedure, Postal Service.

PART 111—[AMENDED]

1. The authority citation for 39 CFR part 111 continues to read as follows:

Authority: 5 U.S.C. 552(a); 39 U.S.C. 101, 401, 403, 404, 414, 3001-3011, 3201-3219, 3403-3406, 3621, 3626, 5001.

2. Revise the following section of the Domestic Mail Manual (DMM) as follows:

F Forwarding and Related Services

F000 Basic Services

* * * * *

F030 Address Correction, Address Change, FASTforward, and Return Services

1.0 ADDRESS CORRECTION SERVICE

* * * * *

1.2 Invalid Endorsement

Any obsolete ancillary service endorsement or similar sender endorsement not shown in F010 is considered invalid for address update service purposes. Material bearing invalid or conflicting ancillary service endorsements will not be accepted for mailing. If discovered in the mailstream, mail bearing an invalid ancillary service endorsement or conflicting endorsements is treated as unendorsed mail. Exception: Standard Mail (B) pieces that are unendorsed, or that bear invalid or conflicting ancillary service endorsements and are undeliverable, will be treated as if endorsed “Forwarding Service Requested.”

An appropriate amendment to 39 CFR part 111 to reflect these changes will be published if the proposal is adopted.

Stanley F. Mires,
Chief Counsel, Legislative.

[FR Doc. 00-19576 Filed 8-1-00; 8:45 am]

BILLING CODE 7710-12-U